DEPARTMENT OF ENERGY

Federal Energy Regulatory Commission

[Docket No. CP17-79-000]

Florida Gas Transmission Company, L.L.C; Notice of Schedule for Environmental Review of the Wekiva Parkway Relocation Project

On March 16, 2017, Florida Gas Transmission Company, L.L.C (Florida Gas) filed an application in Docket No. CP17-79-000 requesting a Certificate of Public Convenience and Necessity pursuant to Section 7(c) of the Natural Gas Act to construct and operate certain natural gas pipeline facilities. The proposed project is known as the Wekiva Parkway Relocation Project (Project), and would relocate and replace sections of the existing Florida Gas 12-inch-diameter and 26-inch-diameter Sanford Lateral pipelines that conflict with construction of the Florida Department of Transportation's Wekiva Parkway.

On March 29, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA July 28, 2017

90-day Federal Authorization Decision Deadline October 26, 2017

If a schedule change becomes necessary, additional notice will be provided so that the relevant agencies are kept informed of the Project's progress.

Project Description

The Project would abandon in place and relocate 4.60 miles of 12-inch-diameter Sanford Lateral pipeline and 3.16 miles of 26-inch-diameter Sanford Lateral Loop pipeline in Lake and Seminole Counties, Florida. The Project intent is to resolve conflicts between the existing pipeline facilities and construction of the Florida Department of Transportation's new State Road (SR) 429, Wekiva Parkway. Florida Gas proposes to relocate the affected pipeline sections to new adjacent right-of-way abutting the north side of existing SR 429 right-of-way.

Background

On April 18, 2017, the Commission issued a Notice of Intent to Prepare an Environmental Assessment for the Proposed Wekiva Parkway Relocation Project and Request for Comments on Environmental Issues (NOI). The NOI was sent to affected landowners; federal, state, and local government agencies; elected officials; environmental and public interest groups; Native American tribes; other interested parties; and local libraries and newspapers. In response to the NOI, the Commission received comments from the Seminole Tribe of Florida, Florida Fish and Wildlife Commission, and one landowner. The primary issues raised by the commentors are assuring that proper wildlife habitat surveys and a Phase 1 Cultural Survey be conducted. Landowner comments were limited to concerns about individual property use and impacts.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-79), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: June 7, 2017.
Kimberly D. Bose,
Secretary.

[FR Doc. 2017-12224 Filed 6-12-17; 8:45 am]

BILLING CODE 6717-01-P